DEPARTMENT OF ENERGY

Federal Energy Regulatory Commission

Combined Notice of Filings #1

Take notice that the Commission received the following electric corporate filings:

Docket Numbers: EC20-75-000.

Applicants: AltaGas Ripon Energy Inc.

Description: Application for Authorization Under Section 203 of the Federal Power Act, et al. of AltaGas Ripon Energy Inc.

Filed Date: 6/19/20.

Accession Number: 20200619-5199.

Comments Due: 5 p.m. ET 7/10/20.

Take notice that the Commission received the following exempt wholesale generator filings:

Docket Numbers: EG20-194-000.

Applicants: Coachella Hills Wind, LLC

Description: Notice of Self-Certification of Exempt Wholesale Generator Status of Coachella Hills Wind, LLC.

Filed Date: 6/19/20.

Accession Number: 20200619-5105.

Comments Due: 5 p.m. ET 7/10/20.

Docket Numbers: EG20-195-000.

Applicants: Voyager Wind IV Expansion, LLC.

Description: Notice of Self-Certification of Exempt Wholesale Generator Status of Voyager Wind IV Expansion, LLC.

Filed Date: 6/19/20.

Accession Number: 20200619-5107.

Comments Due: 5 p.m. ET 7/10/20.

Take notice that the Commission received the following electric rate filings:

Docket Numbers: ER10-2633-038; ER10-2717-037.

Applicants: Birchwood Power Partners, L.P., EFS Parlin Holdings, LLC.

Description: Updated Market Power Analysis for the Northeast Region of Birchwood Power Partners, L.P., et al.

Filed Date: 6/22/20.

Accession Number: 20200622-5098.

Comments Due: 5 p.m. ET 8/21/20.

Docket Numbers: ER20-159-002.

Applicants: Pioneer Transmission, LLC.

Description: Compliance Filing with Opinion No. 569-A of Pioneer Transmission, LLC.

Filed Date: 6/19/20.

Accession Number: 20200619-5147.

Comments Due: 5 p.m. ET 7/10/20.

Take notice that the Commission received the following foreign utility company status filings:

Docket Numbers: FC20-10-000.

Applicants: Energy Center Fajardo LLC.

Description: Notice of Self-Certification of Foreign Utility Company Status.

Filed Date: 6/19/20.

Accession Number: 20200619-5217.

Comments Due: 5 p.m. ET 7/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 22, 2020.
Nathaniel J. Davis, Sr.,
Deputy Secretary.

[FR Doc. 2020-13817 Filed 6-25-20; 8:45 am]

BILLING CODE 6717-01-P